DEPARTMENT OF DEFENSE

Office of the Secretary

Department of Defense Military Family Readiness Council; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Department of Defense Military Family Readiness Council (MFRC) will take place.

DATES: Open to the public Tuesday, December 17, 2019, from 10:00 a.m. to 12:00 p.m.

ADDRESSES: Pentagon, 1155 Defense Pentagon PLC2 Pentagon Library & Conference Center, Room B6, Washington, DC 20301.

FOR FURTHER INFORMATION CONTACT: William Story, (571) 372-5345 (Voice), (571) 372-0884 (Facsimile), OSD Pentagon OUSD P-R Mailbox Family Readiness Council, osd.pentagon.ousd-p-r.mbx.family-readiness-council@mail.mil (Email). Mailing address is Office of the Deputy Assistant Secretary of Defense (Military Community & Family Policy), Office of Family Readiness Policy, 4800 Mark Center Drive, Alexandria, VA 22350-2300, Room 3G15. Website: http://www.militaryonesource.mil/those-who-support-mfrc. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: This is the first meeting of the Council for Fiscal Year 2020 (FY2020). During this meeting the Director, Defense Health Agency, will present information to the Council including changes in dependent health care systems and implications for military family readiness, the first of two focus areas chosen by the Council for FY2020.

Agenda: Opening Remarks; Administrative Items; Review of Written Submissions; Ethics Briefing; Focus Area Presentation: The Transformation of the Military Health System: Readiness, Reform, and the Priorities of the Defense Health Agency; Questions and Answers; Council Discussion; Closing Remarks. Note: Exact order may vary.

Meeting Accessibility: Members of the public who are interested in attending this meeting must RSVP online to: osd.pentagon.ousd-p-r.mbx.family-readiness-council@mail.mil no later than Thursday, December 5, 2019. Meeting attendee RSVPs should indicate if an escort is needed to the meeting location (non-CAC Card holders need an escort) and if handicapped accessible transportation is needed. All visitors without CAC cards who are attending the MFRC meeting must pre-register prior to entering the Pentagon. RSVPs to the MFRC mailbox needing escort to the meeting will be contacted by email from the Pentagon Force Protection Agency with instructions for registration. Please follow these instructions carefully. Otherwise, members of the public may be denied access to the Pentagon on the day of the meeting. Members of the public who are approved for Pentagon access should arrive at the Pentagon Visitors Center waiting area (Pentagon Metro Entrance) no later than 9:00 a.m. on the day of the meeting to allow time to pass through security check points and be escorted to the meeting location. Contact Eddy Mentzer, (571) 372-0857 (Voice), (571) 372-0884, (Facsimile) if you have any questions about your RSVP.

Written Statements: Persons interested in providing a written statement for review and consideration by Council members attending the December 17, 2019 meeting must do so no later than close of business Thursday, December 5, 2019, through the Council mailbox (osd.pentagon.ousd-p-r.mbx.family-readiness-council@mail.mil). Written statements received after this date will be provided to Council members in preparation for the next MFRC meeting. The Designated Federal Officer will review all timely submissions and ensure submitted written statements are provided to Council members prior to the meeting that is subject to this notice. Written statements must not be longer than two type-written pages and should address the following details: issue or concern, discussion, and a recommended course of action. Those who make submissions are requested to avoid including personally identifiable information such as names of adults and children, phone numbers, addresses, social security numbers and other contact information within the body of the written statement.

Dated: November 26, 2019.
Aaron T. Siegel,
Alternate OSD Federal Register Liaison Officer, Department of Defense.

[FR Doc. 2019-26014 Filed 11-29-19; 8:45 am]

BILLING CODE 5001-06-P